DEPARTMENT OF TRANSPORTATION

Federal Aviation Administration

14 CFR Part 39

[Docket No. FAA-2006-25892; Directorate Identifier 2006-NM-120-AD]

RIN 2120-AA64

Airworthiness Directives; Empresa Brasileira de Aeronautica S.A. (EMBRAER) Model EMB-135BJ, -135ER, -135KE, -135KL, and -135LR Airplanes; and Model EMB-145, -145ER, -145MR, -145LR, -145XR, -145MP, and -145EP Airplanes

AGENCY: Federal Aviation Administration (FAA), Department of Transportation (DOT).

ACTION: Notice of proposed rulemaking (NPRM).

SUMMARY: The FAA proposes to adopt a new airworthiness directive (AD) for certain EMBRAER airplanes as described previously. This proposed AD would require inspecting to determine the part number of the left- and right-hand windshield temperature controllers. For airplanes equipped with certain windshield temperature controllers, this proposed AD would also require replacing the attaching hardware of the power cable terminals of the windshield temperature controllers with new, improved attaching hardware; inspecting the power cable terminals for signs of melting or damage to the terminals, cable insulation, or plastic crimping ring; and performing corrective actions if necessary. This proposed AD results from reports of smoke on the flight deck caused by damage from poor electrical contact due to loosening of the attaching hardware of the power cables of certain windshield temperature controllers. We are proposing this AD to prevent overheating of the power cable terminals of the windshield temperature controllers, which could result in smoke and fire on the flight deck.

DATES: We must receive comments on this proposed AD by October 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Comments Invited

We invite you to submit any relevant written data, views, or arguments regarding this proposed AD. Send your comments to an address listed in the ADDRESSES section. Include the docket number “FAA-2006-25892; Directorate Identifier 2006-NM-120-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Agência Nacional de Aviação Civil (ANAC), which is the airworthiness authority for Brazil, notified us that an unsafe condition may exist on certain EMBRAER Model EMB-135BJ, -135ER, -135KE, -135KL, and -135LR airplanes and Model EMB-145, -145ER, -145MR, -145LR, -145XR, -145MP, and -145EP airplanes. The ANAC has received reports of smoke on the flight deck caused by damage from poor electrical contact due to loosening of the attaching hardware of the power cable terminals of certain windshield temperature controllers. This condition, if not corrected, could lead to overheating of the power cable terminals of the windshield temperature controllers, which could result in smoke and fire on the flight deck.

Relevant Service Information

EMBRAER has issued Service Bulletin 145-30-0043, Revision 02, dated May 25, 2006; and Service Bulletin 145LEG-30-0013, dated June 28, 2005. The service information describes procedures for replacing the attaching hardware of the power cable terminals of certain windshield temperature controllers, part number (P/N) 3801D2( ), with new, improved attaching hardware; inspecting the power cable terminals for signs of melting or damage to the terminals, cable insulation, or plastic crimping ring; and performing corrective actions if necessary. Corrective actions include replacing any melted or damaged crimping ring, cable terminal, or cable. Accomplishing the actions specified in the service information is intended to adequately address the unsafe condition.

The ANAC mandated the service information and issued Brazilian airworthiness directive 2006-05-01, effective May 23, 2006, to ensure the continued airworthiness of these airplanes in Brazil.

FAA's Determination and Requirements of the Proposed AD

These airplane models are manufactured in Brazil and are type certificated for operation in the United States under the provisions of § 21.29 of the Federal Aviation Regulations (14 CFR 21.29) and the applicable bilateral airworthiness agreement. Pursuant to this bilateral airworthiness agreement, the ANAC has kept the FAA informed of the situation described above. We have examined the ANAC's findings, evaluated all pertinent information, and determined that we need to issue an AD for airplanes of this type design that are certificated for operation in the United States. Therefore, we are proposing this AD, which would require accomplishing the actions specified in the service information described previously.

Clarification of Inspection Terminology

The service bulletins specify to inspect for evidence of damage or melting. However, to eliminate any confusion about the proper type of inspection, we would require a “detailed inspection,” which is consistent with the type of inspection specified in Brazilian airworthiness directive 2006-05-01.

Clarification of Part Number (P/N) References

The service bulletins specify that certain windshield temperature controllers, having P/N 3801D2( ), are affected. The parentheses indicate that the P/N might or might not contain a suffix letter. Although the service bulletins identified in the following table make it clear that the INU part numbers, as identified in Table 1 of the AD, are the primary identifiers of all affected INUs, we have determined that these various suffix references could cause confusion. Therefore, to address all references to suffix letters in the service bulletins, we have revised the AD to read “-850( )/-851( )” where applicable.

Costs of Compliance

This proposed AD would affect about 689 airplanes of U.S. registry. The proposed actions would take about 1 work hour per airplane, at an average labor rate of $80 per work hour. Required parts would be supplied from operator stock. Based on these figures, the estimated cost of the proposed AD for U.S. operators is $55,120, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): FAA-2006-25892; Directorate Identifier 2006-NM-120-AD.

Comments Due Date

(a) The FAA must receive comments on this AD action by October 26, 2006.

Affected ADs

(b) None.

Applicability

(c) This AD applies to all EMBRAER Model EMB-135BJ, -135ER, -135KE, -135KL, and -135LR airplanes; and Model EMB-145, -145ER, -145MR, -145LR, -145XR, -145MP, and -145EP airplanes; certificated in any category.

Unsafe Condition

(d) This AD results from reports of smoke on the flight deck caused by damage from poor electrical contact due to loosening of the attaching hardware of the power cables of certain windshield temperature controllers. We are issuing this AD to prevent overheating of the power cable terminals of the windshield temperature controllers, which could result in smoke and fire on the flight deck.

Compliance

(e) You are responsible for having the actions required by this AD performed within the compliance times specified, unless the actions have already been done.

Inspecting for Part Number (P/N) of Controller

(f) Within 5,000 flight hours after the effective date of this AD, inspect to determine the P/N of the left- and right-hand windshield temperature controllers. If any windshield temperature controller is found to have a P/N other than Goodrich P/N 3801D2( ), no further action is required by this AD for that controller.

Replacement of Attaching Hardware, Further Inspection, and Corrective Actions

(g) Before further flight after performing the inspection required by paragraph (f) of this AD, for all windshield temperature controllers having Goodrich P/N 3801D2( ) or any controller for which the P/N cannot be conclusively determined: Replace the attaching hardware of the power cable terminals of the controllers with new, improved attaching hardware having new P/Ns. Concurrently, perform a detailed inspection for signs of melting or damage of the plastic crimping ring, cable insulation, or terminals of the power cables, and, before further flight, perform applicable corrective actions. Perform all the actions in accordance with the Accomplishment Instructions of EMBRAER Service Bulletin 145-30-0043, Revision 02, dated May 25, 2006, or EMBRAER Service Bulletin 145LEG-30-0013, dated June 28, 2005; as applicable.

Credit for Actions Accomplished Using Previous Issue of Service Bulletin

(h) Actions accomplished before the effective date of this AD in accordance with EMBRAER Service Bulletin 145-30-0043, dated June 28, 2005; or Revision 01, dated April 7, 2006; are considered acceptable for compliance with corresponding actions required by this AD.

Alternative Methods of Compliance (AMOCs)

(i)(1) The Manager, International Branch, ANM-116, has the authority to approve AMOCs for this AD, if requested in accordance with the procedures found in 14 FR 39.19.

(2) Before using any AMOC approved in accordance with § 39.19 on any airplane to which the AMOC applies, notify the appropriate principal inspector in the FAA Flight Standards Certificate Holding District Office.

Related Information

(j) Brazilian airworthiness directive 2006-05-01, effective May 23, 2006, also addresses the subject of this AD.

Issued in Renton, Washington, on September 14, 2006.
Kalene C. Yanamura,
Acting Manager, Transport Airplane Directorate, Aircraft Certification Service.

[FR Doc. 06-8223 Filed 9-25-06; 8:45 am]

BILLING CODE 4910-13-P